FEDERAL ELECTION COMMISSION

Sunshine Act Meeting

TIME AND DATE: Thursday, April 22, 2021 at 10:00 a.m.

PLACE: Virtual Meeting. Note: Because of the COVID-19 pandemic, we will conduct the open meeting virtually. IF you would like to access the meeting, see the instructions below.

STATUS: This meeting will be open to the public. to access the virtual meeting, go to the commission's website www.fec.gov and click on the banner to be taken to the meeting page.

MATTERS TO BE CONSIDERED:

Proposed Amendment to Directive 17

Draft Statement of Policy Regarding Closing the File at the Initial Stage in the Enforcement Process

Draft Notice of Availability in REG 2021-01 (Candidate Salaries)

OIG FY 2022 Appropriations Language

Proposed Commission Actions to Address “SCAM PACs”

Management and Administrative Matters

CONTACT PERSON FOR MORE INFORMATION: Judith Ingram, Press Officer, Telephone: (202) 694-1220.

Authority: Government in the Sunshine Act, 5 U.S.C. 552b

Laura E. Sinram,
Acting Secretary and Clerk of the Commission.

[FR Doc. 2021-08134 Filed 4-15-21; 4:15 pm]

BILLING CODE 6715-01-P